DEPARTMENT OF STATE

[Public Notice 6970]

Notice of Committee Meeting

Title: Shipping Coordinating Committee; Notice of Committee Meeting.

The Shipping Coordinating Committee (SHC) will conduct an open meeting at 9:30 a.m. on Wednesday, May 5, 2010, in Room 2415 of the United States Coast Guard Headquarters Building, 2100 Second Street, SW., Washington, DC 20593-0001. The primary purpose of the meeting is to prepare for the eighty-seventh Session of the International Maritime Organization (IMO) Maritime Safety Committee (MSC) to be held at the IMO headquarters in London, United Kingdom, from May 12-21, 2010.

The primary matters to be considered include:

—Adoption of the agenda; report on credentials

—Decisions of other IMO bodies

—Consideration and adoption of amendments to mandatory instruments

—Measures to enhance maritime security

—Goal-based new ship construction standards

—LRIT-related matters

—Ship design and equipment (report of the fifty-second session and urgent matters emanating from the fifty-third session of the Sub-Committee)

—Flag State implementation (report of the seventeenth session of the Sub-Committee)

—Safety of navigation (report of the fifty-fifth session of the Sub-Committee)

—Dangerous goods, solid cargoes and containers (report of the fourteenth session of the Sub-Committee)

—Training and watchkeeping (report of the forty-first session of the Sub-Committee)

—Stability, load lines and fishing vessel safety (report of the fifty-second session of the Sub-Committee)

—Bulk liquids and gases (report of the fourteenth session of the Sub-Committee)

—Radiocommunications and search and rescue (urgent matters emanating from the fourteenth session of the Sub-Committee)

—Fire protection (urgent matters emanating from the fifty-fourth session of the Sub-Committee)

—Technical assistance sub-programme in maritime safety and security

—Role of the human element

—Formal safety assessment

—Piracy and armed robbery against ships

—General cargo ship safety

—Implementation of instruments and related matters

—Relations with other organizations

—Application of the Committee's Guidelines

—Work programme

—Any other business

—Consideration of the report of the Committee on its 87th session

Members of the public may attend this meeting up to the seating capacity of the room. To facilitate the building security process, those who plan to attend should contact the meeting coordinator, LCDR Jason Smith, bye-mail at jason.e.smith2@uscg.mil, by phone at (202) 372-1376, by fax at (202) 372-1925, or in writing at Commandant (CG-5212), U.S. Coast Guard, 2100 2nd Street, SW, Stop 7126, Washington, DC 20593-7126. Please note that due to security considerations, two valid, government-issued photo identifications must be presented to gain entrance to the Headquarters building. The Headquarters building is accessible by taxi and privately owned conveyance (public transportation is not generally available). However, parking in the vicinity of the building is extremely limited. Additional information regarding this and other IMO SHC public meetings may be found at: http://www.uscg.mil/imo.

This announcement will appear in the Federal Register less than 15 days prior to the meeting. The Department of State finds that there is an exceptional circumstance in that this advisory committee meeting must be held on May 5th in order to prepare for the IMO MSC meeting to be convened on May 12th.

Dated: April 23, 2010.
Jon Trent Warner,
Executive Secretary, Shipping Coordinating Committee, Department of State.

[FR Doc. 2010-9836 Filed 4-27-10; 8:45 am]

BILLING CODE 4710-09-P